DEPARTMENT OF VETERANS AFFAIRS

Veterans' Family, Caregiver, and Survivor Advisory Committee, Notice of Meeting

The Department of Veterans Affairs (VA) gives notice under the Federal Advisory Committee Act that the Veterans' Family, Caregiver, and Survivor Advisory Committee will meet on October 3-4, 2018. The meeting will be held at the American Red Cross, 430 17th Street NW, Washington, DC 20006. Both sessions will begin at 9:00 a.m. (EST) each day. The session on October 3 will adjourn at approximately 5:00 p.m. The session on the October 4 will adjourn at approximately 4:30 p.m. The meetings are open to the public.

The purpose of the Committee is to advise the Secretary of Veterans Affairs on matters related to: Veterans' families, caregivers, and survivors across all generations, relationships, and Veterans status; the use of VA care and benefits services by Veterans' families, caregivers, and survivors, and possible expansion of such care and benefits services; Veterans' family, caregiver, and survivor experiences; VA policies, regulations, and administrative requirements related to the transition of Servicemembers from the Department of Defense (DoD) to enrollment in VA that impact Veterans' families, caregivers, and survivors; and factors that influence access to, quality of, and accountability for services and benefits for Veterans' families, caregivers, and survivors.

On October 3 and October 4, the agenda will include information briefings from the subcommittee and offices within Veterans Health Administration (that include Caregiver Support Program, Center of Excellence, Choose Home, Suicide Prevention-Impact on Veterans' Family, Caregivers, and Survivors, and Opioid Crisis—Impact on Veterans' Family, Caregivers, and Survivors, and the Office of Survivors Assistance), as well as opening remarks from VA senior leaders including the Chief Veterans Experience Officer and the Committee Chair. Committee members will also discuss the committee work plan and future activities. Public comments will be received at 4:45-5:30 p.m. on October 3, 2018.

Individuals wishing to speak should contact Dr. Betty Moseley Brown at Betty.MoseleyBrown@va.gov or (202) 465-6199 and are requested to submit a 1-2 page summary of their comments for inclusion in the official meeting record. In the interest of time, each speaker will be held to a 5 minute time limit.

If you are interested in attending, please submit your name to Betty Moseley Brown by September 28, 2018 to help expedite arrival process. Any member of the public seeking additional information should contact Dr. Betty Moseley Brown at Betty.MoseleyBrown@va.gov or (202) 465-6199.

Dated: September 13, 2018.
Jelessa M. Burney,
Federal Advisory Committee Management Officer.

[FR Doc. 2018-20282 Filed 9-17-18; 8:45 am]

BILLING CODE 8320-01-P